FEDERAL COMMUNICATIONS COMMISSION

[DA 02-2283]

Wireless Telecommunications Bureau Seeks Comment on Request for Postponement of 1670-1675 MHz Band Auction; Auction No. 46

AGENCY: Federal Communications Commission.

ACTION: Notice.

SUMMARY: This document seeks comment on a request for postponement of Auction No. 46 to allow telecommunications companies to raise the capital necessary to participate in the auction.

DATES: Comments are due on or before September 20, 2002.

ADDRESSES: Federal Communications Commission, 445 12th Street, SW., TW-A325, Washington, DC 20554. See SUPPLEMENTARY INFORMATION for further filing instructions.

FOR FURTHER INFORMATION CONTACT: Francis Gutierrez of the Legal Branch of the Auctions and Industry Analysis Division of the Wireless Telecommunications Bureau at (202) 418-0660.

SUPPLEMENTARY INFORMATION: This is a summary of a Public Notice released by the Wireless Telecommunications Bureau on September 13, 2002. The complete text of the Public Notice is available for public inspection and copying during regular business hours at the FCC Reference Information Center, Portals II, 445 12th Street, SW., Room CY-A257, Washington, DC 20554. The September 13, 2002 Public Notice may also be purchased from the Commission's duplicating contractor, Qualex International, Portals II, 445 12th Street, SW., Room CY-B402, Washington, DC 20554, telephone 202-863-2893, facsimile 202-863-2898, or via e-mail qualexint@aol.com.

1. On October 30, 2002, the Federal Communications Commission is scheduled to hold an auction of one license in the 1670-1675 MHz band (Auction No. 46). The deadline for submission of short-form applications (FCC Form 175) to bid in Auction No. 46 is currently October 1, 2002 at 6 p.m. ET.

2. In a letter to the Wireless Telecommunications Bureau dated September 13, 2002, ArrayComm, Inc. (ArrayComm) requests a six-month postponement of Auction No. 46. ArrayComm contends that a postponement is needed because circumstances in the financial markets have made it difficult for telecommunications companies to raise the capital necessary to participate in the auction. ArrayComm asserts that a postponement of Auction No. 46 until April 30, 2003, will enable many companies that seek to compete for the 1670-1675 MHz license to alleviate their capital shortage prior to the auction, thereby ensuring maximum participation in the auction.

3. Because of the impending October 1, 2002 deadline for the submission of short-form applications, the Bureau seeks comment on ArrayComm's request on an expedited basis. Interested parties may file comments on or before September 20, 2002.

4. All comments should reference ArrayComm's request for postponement and include DA 02-2283. Comments should be filed with the Office of the Secretary, Federal Communications Commission, 445 12th Street, SW., TW-A325, Washington, DC 20554. The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

5. Comments should also be sent by electronic mail to the following address: auction46@fcc.gov. The electronic mail containing the comments must include a subject or caption referring to Auction No. 46 Comments. The Bureau requests that parties format any attachments to electronic mail as Adobe® Acrobat® (pdf) or Microsoft® Word documents. Comments should also be sent to the Commission's duplicating contractor, Qualex International (Qualex), Portals II, 445 12th Street, SW., Room CY-B402, Washington, DC 20554, telephone (202) 863-2893, by facsimile (202) 863-2898, or via e-mail at qualexint@aol.com.

6. Copies of comments will be available for public inspection during regular business hours in the FCC Public Reference Room, Room CY-A257, 445 12th Street, SW., Washington, DC 20554. Copies may also be obtained from Qualex.

7. The ArrayComm waiver request is available for public inspection and copying in the Reference Center, Room CY A257, 445 12th St., SW., Washington, DC 20554. Copies of the waiver request are also available from Qualex.

8. This proceeding has been designated as a “permit-but-disclose” proceeding in accordance with the Commission's ex parte rules. See 47 CFR 1.1200(a) and 1.1206. Persons making oral ex parte presentations are reminded that memoranda summarizing the presentations 1 must contain summaries of the substance of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

Federal Communications Commission.
Louis J. Sigalos,
Deputy Chief, Auctions & Industry Analysis Division, Wireless Telecommunications Commission.

[FR Doc. 02-24592 Filed 9-26-02; 8:45 am]

BILLING CODE 6712-01-P